DEPARTMENT OF HOMELAND SECURITY

Transportation Security Administration

New Agency Information Collection Activity Under OMB Review: TSA Canine Training Center Adoption Application

AGENCY: Transportation Security Administration, DHS.

ACTION: 30-day notice.

SUMMARY: This notice announces that the Transportation Security Administration (TSA) has forwarded the new Information Collection Request (ICR) abstracted below to the Office of Management and Budget (OMB) for review and approval under the Paperwork Reduction Act (PRA). The ICR describes the nature of the information collection and its expected burden. TSA published a Federal Register notice, with a 60-day comment period soliciting comments, of the following collection of information on December 13, 2016, 81 FR 89963. The collection involves gathering information from individuals who wish to adopt a TSA canine through the TSA Canine Training Center (CTC) Adoption Program.

DATES: Send your comments by June 5, 2017. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: TSA Canine Training Center Adoption Application.

Type of Request: New collection.

OMB Control Number: 1652-XXXX.

Form(s): TSA Form 433.

Affected Public: Individuals seeking to adopt a TSA canine.

Abstract: The TSA Canine Program is a Congressionally-mandated program that operates pursuant to section 110(e)(3) of the Aviation and Transportation Security Act (ATSA), Public Law 107-71 (115 Stat. 597, Nov. 19, 2001); the Homeland Security Act of 2002, Public Law 107-296 (116 Stat. 2135, Nov. 25, 2002); and the Implementing Recommendations of the 9/11 Commission Act of 2007, Public Law 110-53 (121 Stat. 266, Aug. 3, 2007). The TSA Canine Program developed the TSA CTC to train and deploy explosive detection canine teams to Federal, State, and local agencies in support of daily activities that protect the transportation domain. TSA created the TSA CTC Adoption Program under the authority of 41 CFR 102-36.35(d) and 102-36.365 to find suitable individuals or families to adopt and provide good homes to canines who do not graduate from the training program. Individuals seeking to adopt a TSA canine must complete the TSA CTC Adoption Application. This collection of information allows the TSA CTC to collect personal information from the applicants to determine their suitability to adopt a TSA canine.

Number of Respondents: 300.

Estimated Annual Burden Hours: An estimated 50 hours annually.

Dated: April 28, 2017.
Christina A. Walsh,
TSA Paperwork Reduction Act Officer, Office of Information Technology.

[FR Doc. 2017-09038 Filed 5-3-17; 8:45 am]

BILLING CODE 9110-05-P